DEPARTMENT OF TRANSPORTATION

Office of the Secretary

Agreements Filed; Weekly Receipts: Aviation Proceedings, Agreements Filed During the Week Ending September 15, 2000

The following Agreements were filed with the Department of Transportation under the provisions of 49 U.S.C. 412 and 414. Answers may be filed within 21 days after the filing of the application.

Docket Number: OST-2000-7914.

Date Filed: September 11, 2000.

Parties: Members of the International Air Transport Association.

Subject: PTC COMP 0682 dated 12 September 2000, Mail Vote 084—Resolution 010e, TC3/TC31 Special Passenger Amending Resolution from Japan to USA/US Territories, Intended effective date: 15 September 2000.

Docket Number: OST-2000-7915.

Date Filed: September 11, 2000.

Parties: Members of the International Air Transport Association.

Subject: PTC2 EUR-AFR 0119 dated 12 September 2000, Mail Vote 085—Resolution 010f, TC2 Europe-Africa Special Passenger Amending Resolution Fares between Durban and points in Europe, Intended effective date: 1 October 2000.

Docket Number: OST-2000-7939.

Date Filed: September 15, 2000.

Parties: Members of the International Air Transport Association.

Subject: PTC2 EUR 0333 dated 12 September 2000, Within Europe Expedited Resolutions r1-r13, Minutes—PTC2 EUR 0332 dated 12 September 2000, Tables—None Intended effective date: 1 October 2000.

Dorothy Y. Beard,
Federal Register Liaison.

[FR Doc. 00-28249 Filed 11-2-00; 8:45 am]

BILLING CODE 4910-62-P